DEPARTMENT OF HEALTH AND HUMAN SERVICES

Substance Abuse and Mental Health Services Administration

Meeting of the Substance Abuse and Mental Health Services Administration, Center for Mental Health Services National Advisory Council

AGENCY: Substance Abuse and Mental Health Services Administration, HHS.

ACTION: Notice.

SUMMARY: Notice is hereby given of the meeting on August 27, 2024, of the Substance Abuse and Mental Health Services Administration (SAMHSA), Center for Mental Health Services National Advisory Council (CMHS NAC). The meeting is open to the public and can also be accessed virtually (best option as space is restricted). Agenda with call-in information will be posted on the SAMHSA website prior to the meeting at: https://www.samhsa.gov/about-us/advisory-councils/ meetings. The meeting will include, but not be limited to, consideration of the meeting minutes from the February 27, 2024, SAMHSA, CMHS NAC meeting; updates from the CMHS Director; remarks from SAMHSA's Assistant Secretary; updates on Disasters; and updates on Subcommittee Tasks.

DATES: August 27, 2024, 9:00 a.m. to 4:00 p.m. (EDT), Open.

ADDRESSES: Hubert H. Humphrey Bldg., 200 Independence Ave. SW, Washington, DC 20201, Room 325A.

FOR FURTHER INFORMATION CONTACT: Pamela Foote, Designated Federal Officer; CMHS NAC, 5600 Fishers Lane, Rockville, MD 20857 (mail); telephone: (240) 276-1279; Email: pamela.foote@samhsa.hhs.gov.

SUPPLEMENTARY INFORMATION: Interested persons may present data, information, or views, orally or in writing, on issues pending before the Council. Written submissions must be forwarded to the contact person no later than 7 days before the meeting. Oral presentations from the public will be scheduled at the end of council discussion during the public comment section. Individuals interested in making oral public comments must notify the contact person, on or before 1 p.m. (EDT), August 17, 2024. Up three minutes will be allotted for each public comment as time permits, as these are presented in the order received.

Public comments received will become part of the meeting records.

To obtain the call-in number, access code, and/or web access link; submit written or brief oral comments; or request special accommodations for persons with disabilities, please register on-line at: https://snacregister.samhsa.gov, or communicate with the contact person.

Meeting information and a roster of Council members may be obtained by accessing the SAMHSA Committee website at: https://www.samhsa.gov/about-us/advisory-councils/cmhs-national-advisory-council or by contacting Pam Foote.

Authority: Public Law 92-463.

Dated: July 10, 2024.
Carlos Castillo,
Committee Management Officer, SAMHSA.

[FR Doc. 2024-15493 Filed 7-15-24; 8:45 am]

BILLING CODE 4162-20-P